DEPARTMENT OF DEFENSE

Department of the Navy

[USN-2008-0018]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended.

DATES: This proposed action will be effective without further notice on May 1, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on March 21, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 26, 2008.
L.M. Bynum,
Alternate OSD Federal Register Liaison Officer, Department of Defense.

N12771-2

System name:

Employee Relations Including Discipline, Employee Grievances, Complaints, Etc. (August 17, 1995, 60 FR 42852).

Changes:

System ID:

Delete entry and replace with “NM12771-2”.

System name:

Delete entry and replace with “Administrative Grievance Files.”

System location:

Delete entry and replace with “Organizational elements of the Department of the Navy. Official mailing addresses are published in the Standard Navy Distribution List that is available at http://doni.daps.dla.mil/sndl.aspx.”

Categories of individuals covered by the system:

Delete entry and replace with “Navy and Marine Corps civilian employees paid from appropriated funds serving under career, career-conditional, temporary and excepted service appointments by whom grievances exist.”

Categories of records in the system:

Delete entry and replace with “Information pertaining to administrative grievances to include but not limit to individual's name, address and Social Security Number (SSN).”

Authority for maintenance of the system:

Delete entry and replace with “10 U.S.C. 5013, Secretary of the Navy; 10 U.S.C. 5041, Headquarters, Marine Corps; and E.O. 9397 (SSN).”

Purpose(s):

Delete entry and replace with “To support management in the processing, administration, and adjudication of grievances and for program evaluation purposes.”

* * * * *

Storage:

Delete entry and replace with “Paper files in folders and electronic storage media.”

* * * * *

Safeguards:

Delete entry and replace with “Password controlled system, file, and element access based on predefined need-to-know. Physical access to terminals, terminal rooms, buildings and activities' grounds are controlled by locked terminals and rooms, guards, personnel screening and visitor registers. For contractor operated facilities, client data is kept in a certified data facility. At no time is client data removed from the secure hosting environment and access to client data is only to those employees with a direct functional need. Password complexity, expiration, minimum length, and history will assist in assuring only appropriate personnel have access to client data.”

* * * * *

System manager(s) and address:

Delete entry and replace with “For Navy: Employee Relations Program Manager, Office of Civilian Human Resources, 614 Sicard Street, SE., Suite 100, Washington Navy Yard, DC 20374-5072.

For Marine Corps: Commandant of the Marine Corps (Code MPC-30), Headquarters, U.S. Marine Corps, 3280 Russell Road, Quantico, VA 22134-5103.”

Notification procedure:

Delete entry and replace with “Individuals seeking to determine whether this system contains information about themselves should address written inquiries to the Commander/Commanding Officer of the activity assigned. Official mailing addresses are published in the Standard Navy Distribution List that is available at http://doni.daps.dla.mil/sndl.aspx.

Written request full name, last four digits of Social Security Number (SSN), and signed request.”

Access procedures:

Delete entry and replace with “Individuals seeking access to information about themselves contained in this system of records should address written inquiries to the Commander/Commanding Officer of the activity assigned. Official mailing addresses are published in the Standard Navy Distribution List that is available at http://doni.daps.dla.mil/sndl.aspx.

Written request full name, last four digits of Social Security Number (SSN), and signed request.”

* * * * *

Record source categories:

Delete entry and replace with “Supervisors; individual; witnesses; correspondence files; e-mails; and databases.”

* * * * *

NM12771-2

System name:

Administrative Grievance Files.

System location:

Organizational elements of the Department of the Navy. Official mailing addresses are published in the Standard Navy Distribution List that is available at http://doni.daps.dla.mil/sndl.aspx.

Categories of individuals covered by the system:

Navy and Marine Corps civilian employees paid from appropriated funds serving under career, career-conditional, temporary and excepted service appointments by whom grievances exist.

Categories of records in the system:

Information pertaining to administrative grievances to include but not limit to individual's name, address and Social Security Number (SSN).

Authority for maintenance of the system:

10 U.S.C. 5013, Secretary of the Navy; 10 U.S.C. 5041, Headquarters, Marine Corps; and E.O. 9397 (SSN).

Purpose(s):

To support management in the processing, administration, and adjudication of grievances and for program evaluation purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To representatives of the Office of Personnel Management on matters relating to the inspection, survey, audit, or evaluation of Navy and Marine Corps civilian personnel management programs or personnel actions, or such other matters under the jurisdiction of the Office of Personnel Management.

To disclose information on any source from which additional information is requested in the course of processing a grievance to the extent necessary to identify the individual, to inform the source of the purpose(s) of the request, and identify the type of information requested.

To disclose information on any source from which additional information is requested in the course of processing a grievance to the extent necessary to identify the individual, to inform the source of the purpose(s) of the request, and identify the type of information requested.

To officials of labor organizations recognized under the Civil Service Reform Act when relevant and necessary to their duties of exclusive representation concerning personnel policies, practices, and matters affecting working conditions.

The `Blanket Routine Uses' that appear at the beginning of the Navy's compilation of systems of records notices apply to this system.

Note: Records of identity, diagnosis, prognosis or treatment of any client/patient, irrespective of whether or when he/she ceases to be a client/patient, maintained in connection with the performance of any alcohol or drug abuse prevention and treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The Navy's ‘Blanket Routine Uses’ do not apply to these records.

Policies and practices for storing, retrieving, accessing, retaining, and disposing of records in the system:

Storage:

Paper files in folders and electronic storage media.

Retrievability:

Filed by last name. SSN is used to differentiate individuals who have the same name.

Safeguards:

Password controlled system, file, and element access based on predefined need-to-know. Physical access to terminals, terminal rooms, buildings and activities' grounds are controlled by locked terminals and rooms, guards, personnel screening and visitor registers. For contractor operated facilities, client data is kept in a certified data facility. At no time is client data removed from the secure hosting environment and access to client data is only to those employees with a direct functional need. Password complexity, expiration, minimum length, and history will assist in assuring only appropriate personnel have access to client data.

Retention and disposal:

Complaint records are retained for six years after final adjudication. All other records are retained for two years or destroyed upon separation of the employee, whichever is later.

System manager(s) and address:

For Navy: Employee Relations Program Manager, Office of Civilian Human Resources, 614 Sicard Street, SE., Suite 100, Washington Navy Yard, DC 20374-5072.

For Marine Corps: Commandant of the Marine Corps (Code MPC-30), Headquarters, U.S. Marine Corps, 3280 Russell Road, Quantico, VA 22134-5103.

Notification procedure:

Individuals seeking to determine whether this system contains information about themselves should address written inquiries to the Commander/Commanding Officer of the activity assigned. Official mailing addresses are published in the Standard Navy Distribution List that is available at http://doni.daps.dla.mil/sndl.aspx.

Written request should contain full name, last four digits of Social Security Number (SSN), and signed request.

Record access procedures:

Individuals seeking access to information about themselves contained in this system of records should address written inquiries to the Commander/Commanding Officer of the activity assigned. Official mailing addresses are published in the Standard Navy Distribution List that is available at http://doni.daps.dla.mil/sndl.aspx.

Written request should contain full name, last four digits of Social Security Number (SSN), and signed request.

Contesting record procedures:

The Navy's rules for accessing records, and for contesting contents and appealing initial agency determinations are published in Secretary of the Navy Instruction 5211.5; 32 CFR part 701; or may be obtained from the system manager.

Record source categories:

Supervisors; individual; witnesses; correspondence files; e-mails; and databases.

Exemptions claimed for the system:

None.

[FR Doc. E8-6637 Filed 3-31-08; 8:45 am]

BILLING CODE 5001-06-P